GENERAL SERVICES ADMINISTRATION

[Notice-MG-2015-01; Docket No. 2015-0002; Sequence No. 2]

Office of Federal High-Performance Green Buildings; Green Building Advisory Committee; Notification of Upcoming Public Advisory Committee Meeting and Conference Calls

AGENCY: Office of Government-wide Policy, General Services Administration (GSA).

ACTION: Meeting notice.

SUMMARY: Notice of this meeting and these conference calls is being provided according to the requirements of the Federal Advisory Committee Act, 5 U.S.C. App. 10(a)(2). This notice provides the agenda and schedule for the April 23, 2015 meeting of the Green Building Advisory Committee (the Committee) and schedule for a series of conference calls, supplemented by Web meetings, for two task groups of the Committee. The meeting is open to the public and the site is accessible to individuals with disabilities. The conference calls are open for the public to listen in. Interested individuals must register to attend as instructed below under Supplementary Information.

DATES: Meeting date: The meeting will be held on Thursday, April 23, 2015, starting at 9:00 a.m. Eastern Standard Time, and ending no later than 4:00 p.m.

Task group conference call dates: The conference calls will be held according to the following schedule:

The Portfolio Prioritization task group will hold conference calls every Monday from March 9, 2015 to April 20, 2015 from 11:00 a.m. to 12:00 p.m. eastern daylight time.

The Energy Use Index task group will hold conference calls every Monday from March 9, 2015 to April 20, 2015 from 3:00 p.m. to 4:00 p.m. eastern daylight time.

FOR FURTHER INFORMATION CONTACT: Mr. Ken Sandler, Designated Federal Officer, Office of Federal High-Performance Green Buildings, Office of Government-wide Policy, General Services Administration, 1800 F Street, NW., Washington, DC 20405, telephone 202-219-1121 (note: this is not a toll-free number). Additional information about the Committee, including meeting materials and updates on the task groups and their schedules, will be available on-line at http://www.gsa.gov/gbac.

SUPPLEMENTARY INFORMATION:

Procedures for Attendance and Public Comment: Contact Mr. Ken Sandler at ken.sandler@gsa.gov to register to attend the meeting and/or listen in to any or all of these conference calls. To attend the meeting and/or conference calls, submit your full name, organization, email address, and phone number. Requests to attend the April 23, 2015 meeting must be received by 5:00 p.m. eastern daylight time on Thursday, April 16, 2015. Requests to listen in to the calls must be received by 5:00 p.m. Eastern time, Thursday, March 5, 2015. (GSA will be unable to provide technical assistance to any listener experiencing technical difficulties. Testing access to the Web meeting site in advance of calls is recommended.)

Contact Ken Sandler at ken.sandler@gsa.gov to register to comment during the April 23, 2015 meeting public comment period. Registered speakers/organizations will be allowed a maximum of 5 minutes each and will need to provide written copies of their presentations. Requests to comment at the meeting must be received by 5:00 p.m. eastern daylight time on Thursday, April 16, 2015. Written comments also may be provided to Mr. Sandler at ken.sandler@gsa.gov by the same deadline.

Background: The Administrator of the U.S. General Services Administration established the Committee on June 20, 2011 (Federal Register/Vol. 76, No. 118) pursuant to Section 494 of the Energy Independence and Security Act of 2007 (EISA, 42 U.S.C. 17123). Under this authority, the Committee advises GSA on the rapid transformation of the Federal building portfolio to sustainable technologies and practices. The Committee reviews strategic plans, products and activities of the Office of Federal High-Performance Green Buildings and provides advice regarding how the Office can accomplish its mission most effectively.

The Portfolio Prioritization task group will pursue the motion of a committee member to “propose a process for Federal agencies to consistently incorporate green building and resilience requirements into their capital investment criteria and strategies.” The Energy Use Index task group will pursue the motion of a committee member to “develop guidelines for creating a new energy intensity metric [to reflect impacts of] densified facilities, centrally located workplace sites . . . and expansion of telework and hoteling.”

The conference calls will focus on how the task groups can best refine these motions into consensus recommendations of each group to the full Committee, which will in turn decide whether to proceed with formal advice to GSA based upon these recommendations.

April 23, 2015 Meeting Agenda

• Welcome, Introductions, Updates & Plans for Today;

• Daylighting Research Findings & Federal Applications;

• Portfolio Prioritization: Task Group Report & Discussion;

• Working Lunch (with Presentation);

• Climate Change: Progress & Opportunities;

• Energy Use Index: Task Group Report & Discussion;

• Federal Building Performance Labels: Final Proposal;

• Topics Proposed by Committee Members;

• Public Comment Period;

• Closing comments;

• Adjourn.

Detailed agendas, background information and updates for the meeting and conference calls will be posted on GSA's Web site at http://www.gsa.gov/gbac.

Meeting Access: The Committee will convene its April 23, 2015 meeting at the U.S. General Services Administration building, Room 1153, 1800 F Street NW., Washington DC 20405, and the site is accessible to individuals with disabilities.

Dated: February 12, 2015.
Kevin Kampschroer,
Federal Director, Office of Federal High-Performance Green Buildings, General Services Administration.

[FR Doc. 2015-03400 Filed 2-17-15; 8:45 am]

BILLING CODE 6820-14-P